DEPARTMENT OF ENERGY

Federal Energy Regulatory Commission

[Docket No. RP99-301-099]

ANR Pipeline Company; Notice Of Negotiated Rate

December 10, 2003.

Take notice that on December 1, 2003, ANR Pipeline Company, (ANR) tendered for filing two negotiated rate agreements between ANR and Callon Petroleum Operating Company pursuant to ANR's Rate Schedules ITS and ITS (Liquefiables), and a related Lease Dedication Agreement.

ANR states that it is also submitted the following tariff sheets to add the Callon Lease Dedication Agreement, as well as various other ANR Lease Dedication Agreements previously accepted by the Commission, to Section 31, Non-Conforming Agreements, of the General Terms and Conditions of ANR's FERC Gas Tariff:

Sixteenth Revised Sheet No. 190

Original Sheet No. 190A

ANR requests that the Commission accept and approve the subject negotiated rate agreements and revised tariff sheets to be effective December 1, 2003.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00566 Filed 12-16-03; 8:45 am]

BILLING CODE 6717-01-P